DEPARTMENT OF EDUCATION

Notice of Proposed Information Collection Requests

AGENCY: Department of Education.

ACTION: Correction notice.

SUMMARY: On July 31, 2002, the Department of Education published two 60-day public comment period notices for the information collections, “Guidance to SEAs Seeking to Use an Alternative Method to Distribute Title I Funds to LEAs with Fewer Than 20,000 Total Residents” and “Guidance to SEAs on Procedures for Adjusting ED-determined Title I Allocations to Local Educational Agencies (LEAs).” These notices were incorrectly published since comment period will be provided with the publication of the Notice of Proposed Rulemaking (NPRM) for Title I—Improving the Academic Achievement of the Disadvantaged. The comment period for these two information collections should coincide with the published NPRM. The Leader, Regulatory Information Management, Office of the Chief Information Officer, hereby issues a correction notice as required by the Paperwork Reduction Act of 1995.

FOR FURTHER INFORMATION CONTACT: Kathy Axt at her internet address Kathy.Axt@ed.gov.

Dated: July 31, 2002.
John D. Tressler,
Leader, Regulatory Information Management Group, Office of the Chief Information Officer.

[FR Doc. 02-19780 Filed 8-5-02; 8:45 am]

BILLING CODE 4000-01-P